DEPARTMENT OF HEALTH AND HUMAN SERVICES

National Institutes of Health

National Cancer Institute; Amended Notice of Meeting

Notice is hereby given of a change in the meeting of the National Cancer Institute Special Emphasis Panel, November 18, 2016, 03:00 p.m. to November 18, 2016, 05:00 p.m., National Cancer Institute Shady Grove, 9609 Medical Center Drive, 3W030, Rockville, MD 20850 which was published in the Federal Register on October 17, 2016, 81 FR 71516.

The meeting notice is amended to change the date and time from November 18, 2016, 3:00 p.m.-5:00 p.m. to December 15, 2016, 12:30 p.m.-2:30 p.m. The meeting is closed to the public.

Dated: November 17, 2016.
Melanie J. Pantoja,
Program Analyst, Office of Federal Advisory Committee Policy.

[FR Doc. 2016-28144 Filed 11-22-16; 8:45 am]

BILLING CODE 4140-01-P